DEPARTMENT OF HOMELAND SECURITY

Federal Emergency Management Agency

44 CFR Part 65

[Docket No. FEMA-B-7467]

Changes in Flood Elevation Determinations

AGENCY: Federal Emergency Management Agency (FEMA), Department of Homeland Security, Mitigation Division.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps in effect prior to this determination for the listed communities.

From the date of the second publication of these changes in a newspaper of local circulation, any person has ninety (90) days in which to request through the community that the Mitigation Division Director reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Division, FEMA, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities.

The changed BFEs are in accordance with 44 CFR 65.4. National Environmental Policy Act. This rule is categorically excluded from the requirements of 44 CFR Part 10, Environmental Consideration. No environmental impact assessment has been prepared.

Regulatory Flexibility Act. The Mitigation Division Director for the FEMA certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 13132, Federalism. This rule involves no policies that have federalism implications under Executive Order 13132, Federalism.

Executive Order 12988, Civil Justice Reform. This rule meets the applicable standards of Section 2(b)(2) of Executive Order 12988.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

Alabama:
Houston | City of Dothan (05-04-A105P) | May 18, 2006; May 25, 2006; Dothan Eagle | The Honorable Pat Thomas, Mayor, City of Dothan, P.O. Box 2128, Dothan, Alabama 36302.
Jefferson | City of Trussville (06-04-B139P) | June 22, 2006; June 29, 2006; Birmingham News | The Honorable Eugene A. Melton, Mayor, City of Trussville, Trussville City Hall, 131 Main Street, Trussville, Alabama 35173.
Jefferson | Unincorporated Areas of Jefferson County (06-04-B139P) | June 22, 2006; June 29, 2006; Birmingham News | The Honorable Larry Langford, President, Jefferson County Commission, Jefferson County Courthouse, Room 240, 716 Richard Arrington Jr. Boulevard North, Birmingham, Alabama 35203.
Jefferson | Unincorporated Areas of Jefferson County (06-04-B748P) | July 27, 2006; August 3, 2006; Birmingham News | The Honorable Larry Langford, President, Jefferson County Commission, Jefferson County Courthouse, Room 240, 716 Richard Arrington Jr., Boulevard North, Birmingham, Alabama 35203.
Madison | City of Huntsville (06-04-136P) | July 14, 2006; July 21, 2006; Madison County Record | The Honorable Loretta Spencer, Mayor, City of Huntsville, P.O. Box 308, Huntsville, Alabama 35804.
Mobile | Unincorporated Areas of Mobile County (06-04-A402P) | July 20, 2006; July 27, 2006; Mobile Press Register | Mr. John Pafenbach, County Administrator, Mobile County, 205 Government Street, Mobile, Alabama 36644.
Shelby | City of Pelham (06-04-B342P) | July 12, 2006; July 19, 2006; Shelby County Reporter | The Honorable Bobby Hayes, Mayor, City of Pelham, P.O. Box 1419, Pelham, Alabama 35124.
Tuscaloosa | City of North Port (05-04-1187P) | January 18, 2006; January 25, 2006; The Northport Gazette | The Honorable Harvey Fretwell, Mayor, City of Northport, City Hall, 3500 McFarland Boulevard, Northport, Alabama 35476.
Tuscaloosa | City of North Port (05-04-A392P) | May 17, 2006; May 24, 2006; The Northport Gazette | The Honorable Harvey Fretwell, Mayor, City of Northport, City Hall, 3500 McFarland Boulevard, Northport, Alabama 35476.
Tuscaloosa | City of Tuscaloosa (05-04-A392P) | May 17, 2006; May 24, 2006; The Northport Gazette | The Honorable Walter Maddox, Mayor, City of Tuscaloosa, P.O. Box 2089, Tuscaloosa, Alabama 35403-2089
Tuscaloosa | Unincorporated Areas of Tuscaloosa County (05-04-1187P) | January, 18 2006; January 25, 2006; The Northport Gazette | The Honorable W. Hardy McCollum, Chairman, Tuscaloosa County Board of Commissioners, 714 Greensboro Avenue, Tuscaloosa, Alabama 35401.
Tuscaloosa | Unincorporated Areas of Tuscaloosa County, (05-04-A392P)) | May 17, 2006; May 24, 2006; The Northport Gazette | The Honorable W. Hardy McCollum, Chairman, Tuscaloosa County Board of Commissioners, 714 Greensboro Avenue, Tuscaloosa, Alabama 35401.
Benton | City of Rogers (05-06-0683P) | June 21, 2006; June 28, 2006; Arkansas Democrat Gazette, Rogers Hometown News | The Honorable Steve Womack, Mayor, City of Rogers, 300 West Poplar Street, Rogers, Arkansas 72756.
Benton | City of Rogers (05-06-A559P) | August 30, 2006; September 6, 2006; Arkansas Democrat Gazette, Rogers Hometown News | The Honorable Steve Womack, Mayor, City of Rogers, 300 West Poplar Street, Rogers, Arkansas 72756.
Crawford | City of Van Buren (05-06-A486P) | May 17, 2006; May 24, 2006; Press Argus Courier | The Honorable John Riggs, Mayor, City of Van Buren, 1003 Broadway, Van Buren, Arkansas 72956.
Pulaski | City of Jacksonville (05-06-1464P) | December 21, 2005; December 28, 2005; Jacksonville Patriot | The Honorable Tommy Swaim, Mayor, City of Jacksonville, One Municipal Drive, Jacksonville, Arkansas 72076.
Pulaski | City of North Little Rock (05-06-1777) | April 13, 2006; April 20, 2006; North Little Rock Times | The Honorable Patrick H. Hays, Mayor, City of North Little Rock, 300 Main Street, North Little Rock, Arkansas 72114.
Pulaski | Unincorporated Areas of Pulaski County (05-06-1777P) | April 13, 2006; April 20, 2006; North Little Rock Times | The Honorable Floyd G. Villines, Pulaski County Judge, Pulaski County Courthouse 201 South Broadway, Little Rock, Arkansas 72201.
Coconino | City of Flagstaff (05-09-1103P) | December 8, 2005; December 15, 2005; Arizona Daily Sun | The Honorable Joseph Donaldson, Mayor, City of Flagstaff, 211 West Aspen Avenue, Flagstaff, Arizona 86001.
Maricopa | City of Avondale (06-09-B472P) | July 13, 2006; July 20, 2006; Arizona Business Gazette | The Honorable Marie Lopez-Rogers, Mayor, City of Avondale, 525 North Central Avenue, Avondale, Arizona 85323.
Maricopa | City of Chandler (04-09-1562P) | November 10, 2005; November 17, 2005; Arizona Business Gazette | The Honorable Boyd W. Dunn, Mayor, City of Chandler, P.O. Box 4008, Mail Stop 603, Chandler, Arizona 85244-4008.
Maricopa | City of Glendale (06-09-B380P) | July 20, 2006; July 27, 2006; Arizona Business Gazette | The Honorable Elaine Scrugss, Mayor, City of Glendale, 5850 West Glendale Avenue, Glendale, Arizona 85301
Maricopa | Town of Gilbert (04-09-1717P) | May 11, 2006; May 18, 2006; Arizona Business Gazette | The Honorable Steve Berman, Mayor, Town of Gilbert, 50 West Civic Center Drive, Gilbert, Arizona 85296
Maricopa | Town of Gilbert (06-09-B885X) | June 29, 2006; July 6, 2006; Arizona Business Gazette | The Honorable Steve Berman, Mayor, Town of Gilbert, 50 West Civic Center Drive, Gilbert, Arizona 85296
Maricopa | City of Goodyear (05-09-0791P) | June 15, 2006; June 22, 2006; Arizona Business Gazette | The Honorable Jim Cavanaugh, Mayor, City of Goodyear, 190 North Litchfield Road, Goodyear, Arizona 85338
Maricopa | City of Litchfield Park (05-09-0791P) | June 15, 2006; June 22, 2006; Arizona Business Gazette | The Honorable J. Woodfin Thomas, Mayor, City of Litchfield Park, 214 West Wigman Boulevard, Litchfield Park, Arizona 85340
Maricopa | Town of Paradise Valley (05-09-1284P) | December 8, 2005; December 15, 2005; Arizona Business Gazette | The Honorable Ron Clarke, Mayor, Town of Paradise, 6401 East Lincoln Drive, Paradise Valley, Arizona 85253
Maricopa | City of Peoria (06-09-B380P) | July 20, 2006; July 27, 2006; Arizona Business Gazette | The Honorable John Keegan, Mayor, City of Peoria, 8410 West Monroe Street, Peoria, Arizona 85345
Maricopa | City of Phoenix (05-09-1284P) | December 8, 2005; December 15, 2005; Arizona Business Gazette | The Honorable Phil Gordon, Mayor, City of Phoenix, 200 West Washington Street, 11th Floor, Phoenix, Arizona 85003-1611
Maricopa | City of Phoenix (06-09-B520P) | April 27, 2006; May 4, 2006; Arizona Business Gazette | The Honorable Phil Gordon, Mayor, City of Phoenix, 200 West Washington Street, 11th Floor, Phoenix, Arizona 85003-1611
Maricopa | Town of Queen Creek (04-09-1717P) | May 11, 2006; May 18, 2006; Arizona Business Gazette | The Honorable Mark Schnepf, Mayor, Town of Queen Creek, P.O. Box 650, Queen Creek, Arizona 85242
Maricopa | Town of Queen Creek (06-09-B885X) | June 29, 2006; July 6, 2006; Arizona Business Gazette | The Honorable Mark Schnepf, Mayor, Town of Queen Creek, P.O. Box 650, Queen Creek, Arizona 85242
Maricopa | Unincorporated Areas of Maricopa County (04-09-1717P) | May 11, 2006; May 18, 2006; Arizona Business Gazette | The Honorable Max Wilson, Chairman, Maricopa County, 301 West Jefferson Street, 10th Floor, Phoenix, Arizona 85003
Maricopa | Unincorporated Areas of Maricopa County (05-09-0394P) | May 18, 2006; May 25, 2006; Arizona Business Gazette | The Honorable Max Wilson, Chairman, Maricopa County, 301 West Jefferson Street, 10th Floor, Phoenix, Arizona 85003
Maricopa | Unincorporated Areas of Maricopa County (06-09-B885X) | June 29, 2006; July 6, 2006; Arizona Business Gazette | The Honorable Max Wilson, Chairman, Maricopa County, 301 West Jefferson Street, 10th Floor, Phoenix, Arizona 85003
Pima | City of Tucson (05-09-A160P) | February 16, 2006; February 23, 2006; Daily Territorial | The Honorable Bob Walkup, Mayor, City of Tucson, P.O. Box 27210, Tucson, Arizona 85726
Pima | City of Tucson (05-09-A090P) | March 30, 2006; April 6, 2006; Daily Territorial | The Honorable Bob Walkup, Mayor, City of Tucson, P.O. Box 27210, Tucson, Arizona 85726
Pima | Unincorporated Areas of Pima County (05-09-0847P) | December 8, 2005; December 15, 2005; Daily Territorial | The Honorable Sharon Bronson, Chair, Pima County, Board of Supervisors, 130 West Congress, 11th Floor, Tucson, Arizona 85701
Pima | Unincorporated Areas of Pima County (05-09-A160P) | February 16, 2006; February 23, 2006; Daily Territorial | The Honorable Sharon Bronson, Chair, Pima County, Board of Supervisors, 130 West Congress Street, 11th Floor, Tucson, Arizona 85701
Pima | Unincorporated Areas of Pima County (05-09-A090P) | March 30, 2006; April 6, 2006; Daily Territorial | The Honorable Sharon Bronson, Chair, Pima County, Board of Supervisors, 130 West Congress, 11th Floor, Tucson, Arizona 85701
Pinal | Unincorporated Areas of Pinal County (05-09-A319P) | February 8, 2006; February 15, 2006; Copper Basin News | The Honorable Sandie Smith, Chair, Pinal County, Board of Supervisors, P.O. Box 827, Florence, Arizona 85232
Pinal | Unincorporated Areas of Pinal County (06-09-B339P) | April 19, 2006; April 26, 2006; Copper Basin News | The Honorable Sandie Smith, Chair, Pinal County, Board of Supervisors, P.O. Box 827, Florence, Arizona 85232
California:
Marin | City of Novato (05-09-A080P) | January 11, 2006; January 18, 2006; Novato Advance | The Honorable Carole D. Knutson, Mayor, City of Novato, 75 Rowland Way, Suite 200, Novato, California 94945-5054.
Merced | City of Atwater (05-09-0622P) | February 16, 2006; February 23, 2006; Merced Sun-Star | The Honorable Rudy Trevino, Mayor, City of Atwater, 750 Bellevue Road, Atwater, California 95301.
Merced | Unincorporated Areas of Merced County (05-09-0622P) | February 16, 2006; February 23, 2006; Merced Sun-Star | Mr. Demetrios O. Tatum, County Executive Officer, Merced County, 2222 M Street, Merced, California 95340.
Monterey | City of Marina (05-09-A506P) | May 11, 2006; May 18, 2006; The Salinas Californian | The Honorable Ila Mettee-McCutchon, Mayor, City of Marina, 211 Hillcrest Avenue, Marina, California 93933.
Placer | City of Roseville (05-09-1257P) | June 21, 2006; June 28, 2006; Press Tribune | The Honorable Gina Garbolino, Mayor, City of Roseville, 311 Vernon Street, Roseville, California 95678.
Riverside | City of La Quinta (04-09-1145P) | February 9, 2006; February 16, 2006; Press Enterprise | The Honorable Donald Adolph, Mayor, City of La Quinta, P.O. Box 1504, La Quinta, California 92247-1504.
Riverside | City of Lake Elsinore (06-09-B090P) | June 15, 2006; June 22, 2006; Press Enterprise | The Honorable Robert Magee, Mayor, City of Lake Elsinore, Administrative Office, City Hall, 130 South Main Street, Lake Elsinore, California 92530.
Riverside | City of Norco (04-09-1444P) | November 16, 2005; November 23, 2005; Press Enterprise | Mr. Jeff Allred, City Manager, City of Norco, 2870 Clark Avenue, Norco, California 92860.
Riverside | City of San Jacinto (05-09-A244P) | February 16, 2006; February 23, 2006; Press Enterprise | The Honorable Dale Stubblefield, Mayor, City of San Jacinto, 201 East Main Street, San Jacinto, California 92583.
Riverside | Unincorporated Areas of Riverside County (05-09-A213P) | February 8, 2006; February 15, 2006; Press Enterprise | The Honorable Marion Ashley, Chairman, Riverside County Board of Supervisors, 4080 Lemon Street, Fifth Floor, Riverside, California 92501.
San Diego | City of San Diego (06-09-B001P) | March 16, 2006; March 23, 2006; San Diego Daily TranscriptThe Honorable Jerry Sanders, Mayor, City of San Diego, 202 C Street, 11th Floor, San Diego, California 92101.
San Diego | City of San Diego (06-09-B048P) | May 18, 2006; May 25, 2006; San Diego Daily Transcript | The Honorable Jerry Sanders, Mayor, City of San Diego, 202 C Street, 11th Floor, San Diego, California 92101.
San Diego | Unincorporated Areas of San Diego County (06-09-B14P) | August 3, 2006; August 10, 2006; San Diego Daily Transcript | The Honorable Bill Horn, Chairman, San Diego County Board of Supervisors, 1600 Pacific Highway, San Diego, California 92123.
San Joaquin | City of Lathrop (06-09-B114P) | April 27, 2006; May 4, 2006; The Record | The Honorable Apolinar Sangalang, Mayor, City of Lathrop, 16775 Howland Road, Suite 1, Lathrop, California 95330.
Santa Clara | City of Palo Alto (06-09-A606P) | July 19, 2006; July 26, 2006; Palo Alto Weekly | The Honorable Judy Kleinberg, Mayor, City of Palo Alto, 250 Hamilton Avenue, Palo Alto, California 94301.
Santa Clara | City of San Jose (05-09-0938P) | March 16, 2006; March 23, 2006; San Jose Mercury News | The Honorable Ron Gonzales, Mayor, City of San Jose, 200 East Santa Clara Street, San Jose, California 95113.
Santa Clara | City of San Jose (05-09-A216P) | March 23, 2006; March 30, 2006; San Jose Mercury News | The Honorable Ron Gonzales, Mayor, City of San Jose, 200 East Santa Clara Street, San Jose, California 95113.
Santa Clara | City of San Jose (06-09-B378P) | July 19, 2006; July 26, 2006; San Jose Mercury News | The Honorable Ron Gonzales, Mayor, City of San Jose, 200 East Santa Clara Street, San Jose, California 95113.
Santa Clara | City of Santa Clara (06-09-B378P) | July 19, 2006; July 26, 2006; San Jose Mercury News | The Honorable Patricia Mahan, Mayor, City of Santa Clara, 1500 Warburton Avenue, Santa Clara, California 95050.
Ventura | City of Simi Valley (05-09-0780P) | February 2, 2006; February 9, 2006; Ventura County Star | The Honorable Paul Miller, Mayor, City of Simi Valley, 2929 Tapo Canyon Road, Simi Valley, California 93063.
Ventura | City of Simi Valley (06-09-A639P) | May 18, 2006; May 25, 2006; Ventura County Star | The Honorable Paul Miller, Mayor, City of Simi Valley, 2929 Tapo Canyon Road, Simi Valley, California 93063.
Colorado:
Adams | City of Thornton (06-08-A627X) | December 16, 2005; December 23, 2005; Eastern Colorado News | The Honorable Noel Busck, Mayor, City of Thornton, 9500 Civic Center Drive, Thornton, Colorado 80229.
Arapahoe | City of Centennial (05-08-0333P) | January 19, 2006; January 26, 2006; Littleton Independent | The Honorable Randy Pye, Mayor, City of Centennial, 12503 East Euclid Drive, Suite 200, Centennial, Colorado 80111.
Arapahoe | Unincorporated Areas of Arapahoe County (05-08-0333P) | January 19, 2006; January 26, 2006; Littleton Independent | The Honorable Lynn Myers, Chair, Arapahoe County Board of Commissioners, 5334 South Prince Street, Littleton, Colorado 80166-0001.
Douglas | Town of Parker (06-08-B014P) | March 30, 2006; April 6, 2006; Douglas County News—Press | The Honorable David Caiano, Mayor, Town of Parker, 20120 East Mainstreet, Parker, Colorado 80138 .
Douglas | Town of Parker (06-08-B338P) | August 10, 2006; August 17, 2006; Douglas County News—Press | The Honorable David Caiano, Mayor, Town of Parker, 20120 East Mainstreet, Parker, Colorado 80138.
Douglas | Unincorporated Areas of Douglas County (06-08-B010P) | May 11, 2006; May 18, 2006; Douglas County News—Press | The Honorable Walter Maxwell, Chairman, Douglas County Board of Commissioners, 100 Third Street, Castle Rock, Colorado 80104.
Douglas | Unincorporated Areas of Douglas County (06-08-B338P) | August 10, 2006; August 17, 2006; Douglas County News—Press | The Honorable Walter Maxwell, Chairman, Douglas County Board of Commissioners, 100 Third Street, Castle Rock, Colorado 80104.
El Paso | City of Colorado Springs (06-08-B006P) | February 22, 2006; March 1, 2006; El Paso County News | The Honorable Lionel Rivera, Mayor, City of Colorado Springs, P.O. Box 1575, Colorado Springs, Colorado 80901.
El Paso | City of Colorado Springs (05-08-0586P) | March 1, 2006; March 8, 2006; El Paso County News | The Honorable Lionel Rivera, Mayor, City of Colorado Springs, P.O. Box 1575, Colorado Springs, Colorado 80901.
El Paso | City of Colorado Springs (04-08-0651P) | April 19, 2006; April 26, 2006; El Paso County News | The Honorable Lionel Rivera, Mayor, City of Colorado Springs, P.O. Box 1575, Colorado Springs, Colorado 80901.
El Paso | City of Colorado Springs (05-08-0575P) | May 17, 2006; May 24, 2006; El Paso County News | The Honorable Lionel Rivera, Mayor, City of Colorado Springs, P.O. Box 1575, Colorado Springs, Colorado 80901.
El Paso | City of Fountain (05-08-0089P) | November 16, 2005; November 23, 2005; El Paso County News | The Honorable Ken Barela, Mayor, City of Fountain, 116 South Main Street, Fountain, Colorado 80817.
El Paso | Unincorporated Areas of El Paso County (05-08-0089P) | November 16, 2005; November 23, 2005; El Paso County News | The Honorable Jim Bensberg, Chairman, El Paso County Board of Commissioners, 27 East Vermijo Avenue, Colorado Springs, Colorado 80903.
El Paso | Unincorporated Areas of El Paso County (05-08-0586P) | March 1, 2006; March 8, 2006; El Paso County News | The Honorable Jim Bensberg, Chairman, El Paso County, Board of Commissioners, 27 East Vermijo Avenue, Colorado Springs, Colorado 80903.
El Paso | Unincorporated areas of El Paso County (04-08-0651P) | April 19, 2006; April 26, 2006; El Paso County News | The Honorable Jim Bensberg, Chairman, El Paso County Board of Commissioners, 27 East Vermijo Avenue, Colorado Springs, Colorado 80903.
Jefferson | City of Arvada (05-08-0531P) | June 1, 2006; June 8, 2006; Golden Transcript | The Honorable Ken Fellman, Mayor, City of Arvada, 8101 Ralston Road, Arvada, Colorado 80002.
Jefferson | City of Golden (06-08-A676P) | April 20, 2006; April 27, 2006; Golden Transcript | The Honorable Charles J. Baroch, Mayor, City of Golden, 701 Ridge Road,Golden, Colorado 80403.
Jefferson | Unincorporated areas of Jefferson County (06-08-0531P) | June 1, 2006; June 8, 2006; Golden Transcript | The Honorable Jim Congrove, Chairman, Jefferson County Board of Commissioners, 100 Jefferson County Parkway, Golden, Colorado 80419.
Jefferson | City of Westminster (04-08-0439P) | December 7, 2005; December 14, 2005; Brighton Standard Blade | The Honorable Nancy McNally, Mayor, City of Westminster, 4800 West 92nd Avenue, Westminster, Colorado 80031.
Larimer | Unincorporated Areas of Larimer County (05-08-0587P) | April 20, 2006; April 27, 2006; Fort Collins Coloradoan | The Honorable Kathay Rennels, Chair, Larimer County Board of Commissioners, P.O. Box 1190, Fort Collins, Colorado 80522.
Larimer | Town of Wellington (05-08-0379P) | December 22, 2005; December 29, 2005; Fort Collins Coloradoan | The Honorable Larry Noel, Mayor, Town of Wellington, P.O. Box 127, Wellington, Colorado 80549.
Summit | Unincorporated Areas of Summit County (05-08-0618P) | June 16, 2006; June 23, 2006; Summit County Journal | The Honorable Tom Long, Chairman, Summit County Board of Commissioners, P.O. Box 68, Breckenridge, Colorado 80424.
Weld | Town of Erie (05-08-0364P) | November 2, 2005; November 9, 2005; Erie Review | The Honorable Andrew J. Moore, Mayor, Town of Erie, P.O. Box 750, Erie, Colorado 80516-0100.
Weld | Town of Pierce (06-08-B003P) | January 19, 2005; January 26, 2005; Greeley Tribune | The Honorable Craig Cleveland, Mayor, Town Pierce, P.O. Box 57, Pierce, Colorado 80650.
Weld | Town of Severance (05-08-0378P) | March 16, 2006; March 23, 2006; Greeley Tribune | The Honorable Pierre DeMilt Mayor, Town of Severance, P.O. Box 122, Severance, Colorado 80546.
Weld | Unincorporated Areas of Weld County (06-08-B003P) | January 19, 2005; January 26, 2005; Greeley Tribune | The Honorable William Jerke Chairman, Weld County, Board of Commissioners, P.O. Box 758, Greeley, Colorado 80632.
Connecticut:
Fairfield | Town of Greenwich (05-01-0751P) | February 16, 2006; February 23, 2006; Greenwich Tine | The Honorable Jim Lash, First Selectman, Town of Greenwich, Town Hall, 101 Field Point Road, Greenwich, Connecticut 06830.
New Haven | Town of Madison (05-01-0798P) | August 24, 2006; August 31, 2006; New Haven Register | The Honorable Thomas S. Scarpati Selectman, Town of Madison, Town Hall, Eight Campus Drive, Madison, Connecticut 06443.
New Castle | Unincorporated Areas of New Castle County (05-03-1010P) | April 14, 2006; April 21, 2006; Newark Post | The Honorable Christopher A. Coons New Castle County Executive, New Castle County Gov't Center, 87 Reads Way, New Castle, Delaware 19720.
New Castle | Unincorporated Areas of New Castle County (05-03-0955P) | June 22, 2006; June 29, 2006; News Journal | The Honorable Christopher A. Coons New Castle County Executive, New Castle County Gov't Center, 87 Reads Way, New Castle, Delaware 19720.
New Castle | Unincorporated Areas of New Castle County (05-03-0432P) | July 27, 2006; August 3, 2006; News Journal | The Honorable Christopher A. Coons New Castle County Executive, New Castle County Gov't Center, 87 Reads Way, New Castle, Delaware 19720.
New Castle | Unincorporated Areas of New Castle County (05-03-0872P) | August 24, 2006; August 31, 2006; News Journal | The Honorable Christopher A. Coons New Castle County Executive, New Castle County Gov't Center, 87 Reads Way, New Castle, Delaware 19720.
Sussex | Town of Dagsboro (05-03-0353P) | December 28, 2005; January 4, 2006; Delaware Wave | The Honorable Brad Conner Mayor, Town of Dagsboro, P.O. Box 420, Dagsboro, Delaware 19939.
Sussex | Unincorporated Areas of Sussex County (05-03-0353P) | December 28, 2005; January 4, 2006; Delaware Wave | Mr. Robert L. Stickels County Administrator, Sussex County, P.O. Box 589, Georgetown, Delaware 19947.
Florida:
Duval | City of Jacksonville (05-04-1679P) | November 14, 2005; November 21, 2005; Daily Record | The Honorable John Peyton Mayor, City of Jacksonville, 117 West Duval Street, Jacksonville, Florida 32202-373.
Duval | City of Jacksonville (05-04-A260P) | May 15, 2006; May 22, 2006; Daily Record | The Honorable John Peyton Mayor, City of Jacksonville, 117 West Duval Street, Jacksonville, Florida 32202-373.
Duval | City of Jacksonville (06-04-B326P) | May 15, 2006; May 22, 2006; Daily Record | The Honorable John Peyton, Mayor, City of Jacksonville, 117 West Duval Street, Jacksonville, Florida 32202-373.
Duval | City of Jacksonville (05-04-A259P) | June 19, 2006; June 26, 2006; Daily Record | The Honorable John Peyton, Mayor, City of Jacksonville, 117 West Duval Street, Jacksonville, Florida 32202-373.
Duval | City of Jacksonville (06-04-A703P) | June 19, 2006; June 26, 2006; Daily Record | The Honorable John Peyton Mayor, City of Jacksonville, 117 West Duval Street, Jacksonville, Florida 32202-373.
Duval | City of Jacksonville (06-04-BF40P) | August 21, 2006; August 28, 2006; Daily Record | The Honorable John Peyton Mayor, City of Jacksonville, 117 West Duval Street, Jacksonville, Florida 32202-373.
Hillsborough | Unincorporated Areas of Hillsborough County (05-04-1536P) | August 24, 2006; August 31, 2006; St. Petersburg Times | Ms. Patricia G. Bean County Administrator, Hillsborough County, County Center, 26th Floor, 601 East Kennedy Boulevard, Tampa, Florida 33602.
Lake | City of Mount Dora (05-04-3654P) | June 15, 2006; June 22, 2006; Daily Commercial | The Honorable James E. Yatsuk Mayor, City of Mount Dora, P.O. Box 176, Mount Dora, Florida 32756.
Lake | Unincorporated Areas of Lake County (05-04-3652P) | June 16, 2006; June 23, 2006; Daily Commercial | The Honorable Catherine C. Hanson Chairman, Lake County, Board of Commissioners, P.O. Box 7800, Tavares, Florida 32778.
Manatee | Unincorporated Areas of Manatee County (05-04-0296P) | March 16, 2006; March 23, 2006; Bradenton Herald | The Honorable Joe McClash Chairman, Manatee County, Board of Commissioners, P.O. Box 1000, Bradenton, Florida 34206-1000.
Manatee | Unincorporated Areas of Manatee County (05-04-A393P) | May 18, 2006; May 25, 2006; Bradenton Herald | The Honorable Joe McClash Chairman, Manatee County, Board of Commissioners, P.O. Box 1000, Bradenton, Florida 34206-1000.
Marion | Unincorporated Areas of Marion County (05-04-A236P) | June 22, 2006; June 29, 2006; Ocala Star Banner | The Honorable Patrick G. Howard, County Administrator, Marion County, 601 Southeast 25th Avenue, Ocala, Florida 34471.
Miami Dade | City of Miami (06-04-BL20P) | July 20, 2006; July 27, 2006; New Times | The Honorable Manuel A. Diaz, Mayor, City of Miami, Miami City Hall, 3500 Pan American Drive, Miami, Florida 33133.
Leon | City of Tallahasee (05-04-2969P) | May 18, 2006; May 25, 2006; Tallahasee Democrat | The Honorable John Marks, Mayor, City of Tallahassee, 300 South Adams Street, Tallahassee, Florida 32301.
Orange | City of Orlando (06-04-BH16P) | June 29, 2006; July 6, 2006; Orlando Weekly | The Honorable Buddy Dyer, Mayor, City of Orlando, P.O. Box 4990, Orlando, Florida 32802.
Orange | Unincorporated Areas of Orange County (06-04-BH16P) | June 29, 2006; July 6, 2006; Orlando Weekly | The Honorable Richard T. Crotty, Mayor, Orange County, 201 South Rosalind Avenue, Fifth Floor, Orlando, Florida 32801.
Orange | City of Winter Park (06-04-BH16P) | June 29, 2006; July 6, 2006; Orlando Weekly | The Honorable Kenneth Marchman, Mayor, City of Winter Park, 401 Park Avenue South, Winter Park, Florida 32789.
Polk | Village of Highland Park (06-04-BP16) | July 27, 2006; August 3, 2006; Polk County Democrat | The Honorable Earl Sehi, Mayor, Village of Highland Park, 1317 North Highland Park Drive, Lake Wales, Florida 33853.
Polk | City of Lakeland (05-04-2888P) | November 10, 2005; November 17, 2005; The Polk County Democrat | The Honorable Ralph L. Fletcher, Mayor, City of Lakeland, 228 South Massachusetts Avenue, Lakeland, Florida 33801-5012.
Polk | City of Lakeland (04-04-B007P) | January 5, 2006; January 12, 2006; Polk County Democrat | The Honorable Ralph L. Fletcher, Mayor, City of Lakeland, 228 South Massachusetts Avenue, Lakeland, Florida 33801-5012.
Polk | Unincorporated Areas of Polk County (05-04-1899P) | November 14, 2005; November 21, 2005; The Polk County Democrat | Mr. Michael Herr, County Manager, Polk County, P.O. Box 9005, Drawer BC01, Bartow, Florida 33831-9005.
Polk | Unincorporated Areas of Polk County (04-04-B007P) | January 5, 2006; January 12, 2006; Polk County Democrat | Mr. Michael Herr, County Manager, Polk County, P.O. Box 9005, Drawer BC01, Bartow, Florida 33831-9005.
Polk | Unincorporated Areas of Polk County (05-04-1186P) | June 5, 2006; June 12, 2006; Polk County Democrat | Mr. Michael Herr, County Manager, Polk County, P.O. Box 9005, Drawer BC01, Bartow, Florida 33831-9005.
Polk | Unincorporated Areas of Polk County (05-04-1186P) | July 27, 2006; August 3, 2006; Polk County Democrat | Mr. Michael Herr, County Manager, Polk County, P.O. Box 9005, Drawer BC01, Bartow, Florida 33831-9005.
Pasco | Unincorporated Areas of Pasco County (05-04-1536P) | August 24, 2006; August 31, 2006; St. Petersburg Times | Mr. John J. Gallagher, County Administrator, Pasco County, West Pasco Government Center, 7530 Little Road, Suite 340, New Port Richey, Florida 34654.
Pinellas | Unincorporated Areas of Pinellas County (05-04-1536P) | August 24, 2006; August 31, 2006; St. Petersburg Times | Mr. Steve Spratt, County Administrator, Pinellas County, 315 Court Street, Clearwater, Florida 33756.
Putnam | Unincorporated Areas of Putnam County (06-04-B037P) | May 18, 2006; May 25, 2006; Palatka Daily News | Mr. Rick Larry, County Administrator, Putnam County, P.O. Box 758, Palatka, Florida 32178.
Santa Rosa | Unincorporated Areas of Santa Rosa County (06-04-BA86P) | May 17, 2006; May 24, 2006; Santa Rosa's Press Gazette | The Honorable Robert A. Cole, Chairman, Santa Rosa County Board of Commissioners, 6495 Caroline Street, Suite M, Milton, Florida 32570.
Georgia:
Barrow | Unincorporated Areas of Barrow County (05-04-3757P) | April 5, 2006; April 12, 2006; Barrow County News | The Honorable Douglas H. Garrison, Chairman, Barrow County Board of Commissioners, 233 East Broad Street, Winder, Georgia 30680.
Bartow | City of Cartersville (05-04-1806P) | June 22, 2006; June 29, 2006; Daily Tribune News | The Honorable Michael G. Fields, Mayor, City of Cartersville, P.O. Box 1390, Cartersville, Georgia 30120.
Bartow | Unincorporated Areas of Bartow County (05-04-1806P) | June 22, 2006; June 29, 2006; Daily Tribune News | The Honorable Clarence Brown, Bartow County Commissioner, 135 West Cherokee Avenue, Suite 251, Cartersville, Georgia 30120.
Cherokee | Unincorporated Areas of Cherokee County (05-04-A211P) | August 25, 2006; September 1, 2006; Cherokee Tribune | The Honorable J. Michael Byrd, Chairman, Cherokee County, 90 North Street, Suite 310, Canton, Georgia 30114.
Columbia | Unincorporated Areas of Columbia County (05-04-2889P) | August 23, 2006; August 30, 2006; Columbia County News-Times | The Honorable Ron C. Cross, Chairman, Board of Commissioners, Columbia County, 908 Nerium Trail, Evans, Georgia 30809.
Forsyth | Unincorporated Areas of Forsyth County (05-04-2202P) | April 12, 2006; April 19, 2006; Forsyth County News | The Honorable Jack Conway, Commission Chairman, Forsyth County, 110 East Main Street, Suite 210, Cumming, Georgia 30040.
Forsyth | Unincorporated Areas of Forsyth County (05-04-1738P) | May 24, 2006; May 31, 2006; Forsyth County News | Mr. Jeff L. Quesenberry, County Manager, Forsyth County, 110 East Main Street, Suite 210, Cumming, Georgia 30040.
Harris | Unincorporated Areas of Harris County (05-04-A568P) | June 15, 2006; June 22, 2006; Harris County Journal | Mr. Kim W. Russell, Executive Director, Harris County, P.O. Box 426, Hamilton, Georgia 31811.
Thomas | City of Thomasville (06-04-B168P) | March 24, 2006; March 31, 2006; Thomasville Times Enterprise | The Honorable David Lewis, Mayor, City of Thomasville, P.O. Box 1540, Thomasville, Georgia 31799.
Hawaii: Maui | Unincorporated Areas of Maui County (06-09-A607P) | May 25, 2006; June 1, 2006; Maui News | The Honorable Alan M. Arakaw, Mayor, County of Maui, 200 South High Street, Wailuku, Hawaii 96793.
Idaho:
Canyon | Unincorporated Areas of Canyon County (05-10-0594P) | April 20, 2006; April 27, 2006; Idaho Press Tribune | The Honorable Matt Beebe, Chairman, Canyon County Board of Commissioners, 1115 Albany Street, Caldwell, Idaho 83605.
Caribou | City of Bancroft (06-10-B109P) | June 22, 2006; June 29, 2006; Caribou County Sun | The Honorable William Lester, Mayor, City of Bancroft, P.O. Box 549, Bancroft, Idaho 83217.
Illinois:
Adams | City of Quincy (05-05-2307P) | August 24, 2006; August 31, 2006; Quincy Herald-Whig | The Honorable John A. Spring, Mayor, City of Quincy, 730 Maine Street, Quincy, Illinois 62301.
Adams | Unincorporated Areas of Adams County (05-05-2307P) | August 24, 2006; August 31, 2006; Quincy Herald-Whig | The Honorable Mike McLaughlin, Chairman, Adams County Board, 521 Vermont Street, Quincy, Illinois 62301.
Cook | Unincorporated Areas of Cook County (05-05-1222P) | February 16, 2006; February 23, 2006; Daily Herald | The Honorable John H. Stronger, Jr., President, Cook County Board of Commissioners, 118 North Clark Street, Room 537, Chicago, Illinois 60602.
Kankakee | Village of Manteno (06-05-BE61P) | June 22, 2006; June 29, 2006; Daily Journal | The Honorable Timothy Nugent, Mayor, Village of Manteno, 269 North Main Street, Manteno, Illinois 60950.
Kendall | Unincorporated Areas of Kendall County (06-05-B570P) | April 13, 2006; April 20, 2006; Kendall County Record | The Honorable Paul Anderson, County Clerk, Kendall County, 111 Fox Street, Yorkville, Illinois 60560.
La Salle | Unincorporated Areas of La Salle County (05-05-1524P) | April 19, 2006; April 26, 2006; Mendota Reporter | The Honorable Glen (Joe) Dougherty, Chairman, La Salle County Board of Commissioners, 707 Etna Road, Ottawa, Illinois 61350.
Will | Village of Bolingbrook (06-05-B595P) | July 14, 2006; July 21, 2006; Bolingbrook Sun | The Honorable Roger C. Claar, Mayor, Village of Bolingbrook, 375 West Briarcliff Road, Bolingbrook, Illinois 60440.
Will | Village of Plainfield (06-05-B013P) | August 24, 2006; August 31, 2006; Daily Southtown | The Honorable James A. Waldorf, Village President, Village of Plainfield, 14000 West Lockport Street, Plainfield, Illinois 60544.
Will | Unincorporated Areas of Will County (05-05-3131P) | March 23, 2006; March 30, 2006; Daily Southtown | The Honorable Lawrence M. Walsh, Will County Executive, 302 North Chicago Street, Joliet, Illinois 60432.
Will | Unincorporated Areas of Will County (06-05-B013P) | August 24, 2006; August 31, 2006; Daily Southtown | The Honorable Lawrence M. Walsh, Will County Executive, 302 North Chicago Street, Joliet, Illinois 60432.
Indiana:
Bartholomew | Unincorporated Areas of Bartholomew County (06-05-BD86P) | May 18, 2006; May 25, 2006; Bartholomew Republic | The Honorable Fred L. Armstrong, Mayor, City of Columbus, Columbus City Hall, 123 Washington Street, Columbus, Indiana 47201.
Lake | Town of St. John (05-05-A422P) | July 20, 2006; July 27, 2006; Post Tribune | Mr. Stephen Z. Kil, Town Manager, Town of St. John, 10955 West 93rd Avenue, St. John, Indiana 46373.
Laporte | City of Michigan City (06-05-B876P) | July 20, 2006; July 27, 2006; News Dispatch | The Honorable Chuck Oberlie, Mayor, City of Michigan City, 100 East Michigan Boulevard, Michigan City, Indiana 46360.
Marion | City of Indianapolis (05-05-0743P) | February 10, 2006; February 17, 2006; Indianapolis Recorder | The Honorable Bart Peterson, Mayor, City of Indianapolis, 2501 City-County Building, 200 East Washington Street, Indianapolis, Indiana 46204.
Marion | City of Indianapolis (05-05-2979P) | April 20, 2006; April 27, 2006; Indianapolis Newspaper Daily Star | The Honorable Bart Peterson, Mayor, City of Indianapolis, 2501 City-County Building, 200 East Washington Street, Indianapolis, Indiana 46204.
Iowa:
Black Hawk | City of Cedar Falls (04-07-A141P) | February 23, 2006; March 2, 2006; Waterloo Courier | The Honorable Jon Crews, Mayor, City of Cedar Falls, 220 Clay Street, Cedar Falls, Iowa 50613.
Linn | Unincorporated Areas of Linn County (05-07-0212P) | April 20, 2006; April 27, 2006; Cedar Rapids Gazette | The Honorable Linda Langston, Chairperson, Linn County, Board of Supervisors, 930 First Street Southwest, Cedar Rapids, Iowa 52404.
Story | City of Ames (04-07-A685P) | November 10, 2005; November 17, 2005; The Tribune | The Honorable Ted Tedesco, Mayor, City of Ames, 515 Clark Avenue, Ames, Iowa 50010.
Kansas:
Cowley | City of Arkansas City (04-07-A497P) | March 15, 2006; March 22, 2006; Arkansas City Traveler | The Honorable Joel Hockenbury, Mayor, City of Arkansas City, 118 West Central Avenue, Arkansas City. Kansas 67005.
Cowley | Unincorporated Areas of Cowley County (04-07-A497P) | March 15, 2006; March 22, 2006; Arkansas City Traveler | The Honorable Gary Wilson, Chairman, Cowley County Board of Commissioners, 311 East Ninth Avenue, Winfield, Kansas 67156.
Harvey | City of Sedgwick (04-07-A502P) | January 26, 2006; February 2, 2006; The Newton Kansan | The Honorable Keith Dehaven, Mayor, City of Sedgwick, 511 North Commercial, Sedgwick, Kansas 67135.
Harvey | Unincorporated Areas of Harvey County (04-07-A502P) | January 26, 2006; February 2, 2006; The Newton Kansan | The Honorable Ron Krehbiel, Chairman, Harvey County Board of Commissioners, P.O. Box 687, Newton, Kansas 67114.
Johnson | City of Overland Park (05-07-A066P) | February 9, 2006; February 16, 2006; Overland Park Sun | The Honorable Carl Gerlach, Mayor, City of Overland Park, 8500 Santa Fe Drive, Overland Park, Kansas 66212.
Sedgwick | Unincorporated Areas Sedgwick County (05-07-0176P) | February 9, 2006; February 16, 2006; Derby Reporter | The Honorable Dave Unruh, Chairman, Sedgwick County Board of Commissioners, 525 North Main Street, Suite 320, Wichita, Kansas 67203.
Sedgwick | Unincorporated Areas of Sedgwick County (05-07-B015P) | June 8, 2006; June 15, 2006; Wichita Eagle | The Honorable Dave Unruh, Chairman, Sedgwick County Board of Commissioners, 525 North Main Street, Suite 320, Wichita, Kansas 67203.
Sedgwick | City of Wichita (05-07-0752P) | May 18, 2006; May 25, 2006; Wichita Eagle | The Honorable Carlos Mayans, Mayor, City of Wichita, 455 North Main, Wichita, Kansas 67202.
Sedgwick | City of Wichita (06-07-B015P) | June 8, 2006; June 15, 2006; Wichita Eagle | The Honorable Carlos Mayans, Mayor, City of Wichita, 455 North Main, Wichita, Kansas 67202.
Wyandotte | City of Kansas City (04-07-A556P) | May 25, 2006; June 1, 2006; Kansas City Daily Record | The Honorable Joe Reardon, Mayor, Unified Government of Wyandotte County/Kansas City, 701 North Seventh Street, Kansas City, Kansas 66101.
Kentucky: Warren | City of Bowling Green (05-04-1251P) | March 30, 2006; April 6, 2006; Park City Daily News | The Honorable Elaine Walker, Mayor, City of Bowling Green, P.O. Box 430, Bowling Green, Kentucky 42101.
Louisiana:
St. Tammy Parish | St. Tammy Parish (06-06-BA65P) | August 2, 2006; August 9, 2006; St. Tammy News | The Honorable Kevin Davis, Parish President, St. Tammy Parish, P.O. Box 628, Covington, Louisiana 70434.
St. Tammy Parish | St. Tammy Parish (06-06-BD86P) | September 13, 2006; September 20, 2006; St. Tammy News | The Honorable Kevin Davis, Parish President, St. Tammy Parish, P.O. Box 628, Covington, Louisiana 70434.
Massachusetts:
Barnstable | Town of Barnstable (05-01-0764P) | March 30, 2006; April 6, 2006; Cape Cod Times | Mr. John C. Klimm, Town Manager, Town of Barnstable, Barnstable Town Hall, 369 Main Street, Hyannis, Massachusetts 02601.
Barnstable | Town of Bourne (05-01-A062P) | May 25, 2006; June 1, 2006; Cape Cod Times | Mr. Thomas Guerino, Town Administrator, Town of Bourne, Town Hall, 24 Perry Avenue, Bourne, Massachusetts 02532.
Barnstable | Town of Provincetown (05-01-0580P) | May 11, 2006; May 18, 2006; Cape Cod Times | Mr. Keith A. Bergman, Town Manager, Town of Provincetown, Provincetown Town Hall, 260 Commercial Street, Provincetown, Massachusetts 02657.
Plymouth | Town of Duxbury (05-01-0410P) | December 1, 2005; December 8, 2005; The Enterprise | The Honorable John J. Tuffy, Chairman, Board of Selectman, Town of Duxbury, Town Hall, 878 Tremont Street, Duxbury, Massachusetts 02332.
Worcester | Town of Milford (05-01-0129P) | December 8, 2005; December 15, 2005; Milford Daily News | The Honorable Dino B. DeBartolomeis, Chairman, Board of Selectman, Town of Milford, 52 Main Street, Milford, Massachusetts 01757.
Maine:
Cumberland | City of Falmouth (05-01-0287P) | June 22, 2006; June 29, 2006; Falmouth Community Leader | Mr. John D. Harris, Town Manager, Town of Falmouth, 271 Falmouth Road, Falmouth, Maine 04105.
Cumberland | City of Falmouth (06-01-B534P) | August 17, 2006; August 24, 2006; Falmouth Community Leader | Mr. John D. Harris, Town Manager, Town of Falmouth, 271 Falmouth Road, Falmouth, Maine 04105.
Cumberland | Town of Harpswell (05-01-B113P) | June 15, 2006; June 22, 2006; Portland Press Herald | The Honorable Gordon L. Wei, Chair, Board of Selectmen, Town of Harpswell, P.O. Box 39, Harpswell, Maine 04079.
Cumberland | Town of Standish (05-01-A566P) | May 11, 2006; May 18, 2006; Portland Press Herald | Mr. Gordon F. Billington, Town Manager, Town of Standish, 175 Northeast Road, Standish, Maine 04084.
Cumberland | Town of Standish (05-01-B168P) | August 31, 2006; September 7, 2006; Portland Press Herald | Mr. Gordon F. Billington, Town Manager, Town of Standish, 175 Northeast Road, Standish, Maine 04084.
Cumberland | Town of Windham (06-01-B270P) | September 14, 2006; September 21, 2006; Portland Press Herald | The Honorable John MacKinnon, Chairman, Windham Town Council, Eight School Road, Windham, Maine 04062.
Washington | Town of Milbridge (05-01-0691P) | May 11, 2006; May 18, 2006; Bangor Daily News | Mr. Fred Ventresco, Town Manager, Town of Milbridge, P.O. Box 66, Milbridge, Maine 04658.
York | Town of Alfred (05-01-B101X) | February 23, 2006; March 2, 2006; York County Coast Star | The Honorable John Sylvestor, Chair, Board of Selectman, Town of Alfred, P.O. Box 667, Alfred, Maine 04002.
York | Town of Lyman (05-01-B101X) | February 23, 2006; March 2, 2006; York County Coast Star | The Honorable Norman Hutchins, Chair, Board of Selectman, Town of Lyman, 11 South Waterboro Road, Lyman, Maine 04002.
Maryland:
Carroll | Unincorporated Areas of Carroll County (05-03-0321P) | August 31, 2006; September 7, 2006; Carroll County Times | The Honorable Julia W. Gouge, President, Carroll County Board of Commissioners, 225 North Center Street, Westminster, Maryland 21157.
Frederick | City of Frederick (05-03-0831P) | June 14, 2006; June 21, 2006; Frederick News Post | The Honorable William J. Holtzinger, Mayor, City of Frederick, City Hall, 101 North Court Street, Frederick, Maryland 21701-5415.
Frederick | Unincorporated Areas of Frederick County (05-03-0831P) | June 14, 2006; June 21, 2006; Frederick News Post | The Honorable John L. Thompson, President, Frederick County Board of Commissioners, 12 East Church Street, Frederick, Maryland 21701.
Michigan:
Kalamazoo | City of Kalamazoo (05-05-2181P) | June 22, 2006; June 29, 2006; Kalamazoo Gazette | Mr. Kenneth P. Collard, City Manager, City of Kalamazoo, City Hall, 241 West South Street, Kalamazoo, Michigan 49007.
Kalamazoo | City of Portage (05-05-2181P) | June 22, 2006; June 29, 2006; Kalamazoo Gazette | Mr. Maurice S. Evans, City Manager, City of Portage, City Hall, 7900 South Westmedge Avenue, Portage, Michigan 49002.
Wayne | Township of Canton (05-05-3132P) | February 16, 2006; February 23, 2006; Canton Eagle | The Honorable Thomas J. Yack, Supervisor, Township of Canton, 1150 South Canton Center Road, Canton, Michigan 48188.
Minnesota:
Isanti | City of Isanti (04-05-B083P) | January 4, 2006; January 11, 2006; Isanti County News | The Honorable David Apitz, Mayor, City of Isanti, P.O. Box 126, Isanti, Minnesota 55040.
Isanti | Unincorporated Areas of Isanti County (04-05-B083P) | January 4, 2006; January 11, 2006; Isanti County News | The Honorable Tom Pagel, Chair, Isanti County Board of Commissioners, Isanti County Government Center, 509-555 18th Avenue Southwest, Cambridge, Minnesota 55008.
Ramsey | City of Shoreview (04-05-B066P 06-05-BD34X)) | December 13, 2005; December 20, 2005; The Shoreview Press | The Honorable Sandy Martin, Mayor, City of Shoreview, 4600 Victoria Street North, Shoreview, Minnesota 55126.
Rice | City of Northfield (05-05-1343P) | November 16, 2005; November 23, 2005; Northfield News | The Honorable Lee Lansing, Mayor, City of Northfield, City Hall, 801 Washington Street, Northfield, Minnesota 55057.
Rice | Unincorporated Areas of Rice County (05-05-1343P) | November 16, 2005; November 23, 2005; Northfield News | The Honorable Jim Brown, Chairperson, Rice County Board of Commissioners, 320 Northwest Third Street, Faribault, Minnesota 55021.
Missouri:
Clay, Jackson , Platte | City of Kansas City (05-07-0483P) | January 26, 2006; February 2, 2006; Kansas City Daily Record | The Honorable Kay Barnes, Mayor, City of Kansas City, 414 East 12th Street, Kansas City, Missouri 64106.
Clay, Jackson , Platte | City of Kansas City (04-07-A556P) | May 25, 2006; June 1, 2006; Kansas City Daily Record | The Honorable Kay Barnes, Mayor, City of Kansas City, 414 East 12th Street, Kansas City, Missouri 64106.
Howell | City of West Plains (05-07-A513P) | May 18, 2006; May 25, 2006; West Plains Daily Quill | The Honorable Joe Paul Evans, Mayor, City of West Plains, P.O. Box 710, West Plains, Missouri 65775-0710.
Jackson | City of Grain Valley (04-07-A290P) | February 23, 2006; March 3, 2006; The Independence Examiner | The Honorable David Halphin, Mayor, City of Grain Valley, 711 Main Street, Grain Valley, Missouri 64029.
Jefferson | City of De Soto (06-07-B476P) | May 18, 2006; May 25, 2006; Jefferson County Leader | The Honorable Werner Stichling, Mayor, City of De Soto, 411 Lueking Drive, De Soto, Missouri 63020.
Platte | City of Northmoor (04-07-A556P) | May 25, 2006; June 1, 2006; The Landmark | The Honorable Harlan Shaver, Jr., Mayor, City of Northmoor, 4907 Northwest Waukomis Drive, Northmoor, Missouri 64151.
Platte | City of Parkville (04-07-A556P) | May 25, 2006; June 1, 2006; The Landmark | The Honorable Kathy Dusenbery, Mayor, City of Parkville, 1201 East Street, Parkville, Missouri 64152.
Platte | City of Riverside (04-07-A556P) | May 25, 2006; June 1, 2006; The Landmark | The Honorable Kathy Rose, Mayor, City of Riverside, 2950 Northwest Vivion Road, Riverside, Missouri 64150.
Pettis | City of Sedalia (05-07-0407P) | June 22, 2006; June 29, 2006; Sedalia Democrat | The Honorable Bob Wasson, Mayor, City of Sedalia, P.O. Box 1707, Sedalia, Missouri 65301.
Phelps | City of Rolla (05-07-0279P) | December 15, 2005; December 22, 2005; Rolla Daily News | The Honorable Joseph E. Morgan, Mayor, City of Rolla, 102 West Ninth Street, Rolla, Missouri 65401.
St. Charles | City of O'Fallon (04-07-A649P) | April 19, 2006; April 26, 2006; St. Charles Journal | The Honorable Donna Morrow, Mayor, City of O'Fallon, 100 North Main Street, O'Fallon, Missouri 63366.
St. Charles | Unincorporated Areas of St. Charles County (04-07-A649P) | April 19, 2006; April 26, 2006; St. Charles Journal | The Honorable Joe Ortwerth, County Executive, St. Charles County, Historic Courthouse, 100 North Third Street, St. Charles, Missouri 63301.
St. Louis | City of Chesterfield (04-07-A535P) (06-07-B229X) | January 5, 2006; January 12, 2006; St. Louis American | The Honorable John Nations, Mayor, City of Chesterfield, 690 Chesterfield Parkway West, Chesterfield, Missouri 63017-0670.
St. Louis | City of Maryland Heights (04-07-A535P) (06-07-B229X) | January 5, 2006; January 12, 2006; St. Louis American | The Honorable Mike Moeller, Mayor, City of Maryland Heights, 212 Millwell Drive, Maryland Heights, Missouri 63043.
St. Louis | City of Eureka (06-07-B002P) | June 21, 2006; June 28, 2006; St. Louis Daily Record | The Honorable Kevin M. Coffey, Mayor, City of Eureka, P.O. Box 125, Eureka, Missouri 63025.
St. Louis | City of Valley Park (06-07-B081P) | April 19, 2006; April 26, 2006; West County Suburban Journal | The Honorable Jeffery J. Whitteaker, Mayor, City of Valley Park, 320 Benton Street, Valley Park, Missouri 63088.
St. Louis | City of Wildwood (06-07-B002P) | June 21, 2006; June 28, 2006; St. Louis Daily Record | The Honorable Edward L. Marshall, Mayor, City of Wildwood, City Hall 16962, Manchester Road, Wildwood, Missouri 63040.
Madison | City of Madison (06-04-BC51P) | June 15, 2006; June 22, 2006; Madison County Journal | The Honorable Mary Hawkins Butler, Mayor, City of Madison, P.O. Box 40, Madison, Mississippi 39130-004.
Madison | City of Madison (06-04-B265P) | June 22, 2006; June 29, 2006; Madison County Journal | The Honorable Mary Hawkins Butler, Mayor, City of Madison, P.O. Box 40, Madison, Mississippi 39130-004.
Madison | Unincorporated Areas of Madison County (06-04-B265P) | June 22, 2006; June 29, 2006; Madison County Journal | The Honorable Timothy L. Johnson, President, Madison County Board of Supervisors, P.O. Box 608, Canton, Mississippi 39046.
Rankin | City of Brandon (06-04-B977P) | August 16, 2006; August 23, 2006; Rankin County News | The Honorable Carlo Martella, Mayor, City of Brandon, P.O. Box 1539, Brandon, Mississippi 39043.
Simpson | City of Magee (05-04-1476P) | December 15, 2005; December 22, 2005; The Magee Courier | The Honorable Jimmy Clyde, Mayor, City of Magee, 123 Main Avenue North, Magee, Mississippi 39111.
Montana: Gallatin | City of Three Forks (05-08-A579P) | March 23, 2006; March 30, 2006; Bozeman Daily Chronicle | The Honorable Gene Townsend, Mayor, City of Three Forks, P.O. Box 187, Three Forks, Montana 59752.

(Catalog of Federal Domestic Assistance No. 83.100, “Flood Insurance.”)

Dated: October 4, 2006.
David I. Maurstad,
Director, Mitigation Division, Federal Emergency Management Agency, Department of Homeland Security.

[FR Doc. E6-17253 Filed 10-16-06; 8:45 am]

BILLING CODE 9110-12-P